DEPARTMENT OF ENERGY

Federal Energy Regulatory Commission

[Project No., 14382-000]

Black Mountain Hydro, LLC; Notice of Preliminary Permit Application Accepted for Filing and Soliciting Comments, Motions To Intervene, and Competing Applications

On April 10, 2010, Black Mountain Hydro, LLC, filed an application for a preliminary permit, pursuant to section 4(f) of the Federal Power Act (FPA), proposing to study the feasibility of the Black Mountain Pumped Storage Project (Black Mountain Project or project) to be located on two artificial reservoirs created from natural depressions approximately 11 miles southeast of Yerington, in Mineral County, Nevada. The entire project would be located on federal lands managed by the Bureau of Land Management. The sole purpose of a preliminary permit, if issued, is to grant the permit holder priority to file a license application during the permit term. A preliminary permit does not authorize the permit holder to perform any land-disturbing activities or otherwise enter upon lands or waters owned by others without the owners' express permission.

The proposed project would consist of the following: (1) A 176-acre upper-reservoir having a total storage capacity of 6,040 acre-feet at a normal maximum operating elevation of 7,480 feet above mean sea level (msl); (2) a 106-acre lower-reservoir having a total storage capacity of 6,450 acre-feet at a normal maximum operating elevation of 5,520 feet above msl; (3) a 2,200-foot-long concrete-lined headrace; (4) a 7,250-foot-long concrete-lined pressure tunnel; (5) a 2,950-foot-long concrete-lined tailrace; (6) a pump-powerhouse with four 250-megawatt reversible pump-turbines; (7) a new 4.6-mile-long double-circuit 230-kilovolt (kv) transmission line running from the powerhouse to the Pacific Direct Current Intertie (PDCI); (8) a new secondary interconnection consisting of either: (i) an 18-mile-long, 230-kv transmission line running from the powerhouse to Sierra Pacific Power's Fort Churchill generating station, parallel to an existing 120-kv transmission line, or (ii) a new 18-mile-long, 230-kv transmission line running from the powerhouse to the PDCI and then parallel to the PDCI to the Fort Churchill generating station; and (9) appurtenant facilities. The water for the project would be purchased from entities holding existing water rights and would be identified during the study phase of the permit term. The estimated annual generation of the Black Mountain Project would be 2,628 gigawatt-hours.

Applicant Contact: Mr. Mathew Shapiro, Chief Executive Officer, Gridflex Energy, LLC, 1210 W. Franklin Street, Boise, ID 83702; phone: (208) 246-9925.

FERC Contact: Joseph Hassell; phone: (202) 502-8079.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14382) in the docket number field to access the document. For assistance, contact FERC Online Support.

Dated: April 26, 2012.
Kimberly D. Bose,
Secretary.

[FR Doc. 2012-10790 Filed 5-3-12; 8:45 am]

BILLING CODE 6717-01-P